DEPARTMENT OF THE TREASURY

Office of Thrift Supervision

Management Officials Interlocks

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to extend this information collection.

DATES: Submit written comments on or before September 19, 2011.

ADDRESSES: Send comments, referring to the collection by title of the proposal or by OMB approval number, to Information Collection Comments, Chief Counsel's Office, Office of Thrift Supervision, 1700 G Street, NW., Washington, DC 20552; (202) 906-6518.

FOR FURTHER INFORMATION CONTACT: You can request additional information about this proposed information collection by sending an e-mail to ira.mills@ots.treas.gov.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection.

Title of Proposal: Management Officials Interlocks.

OMB Number: 1550-0051.

Form Number: N/A.

Description: OTS uses the requested information to evaluate the merits of interlocks exemption applications. In evaluating the merits, OTS uses the information to determine: (a) Whether the services to be performed by the person in question are necessary or desirable for the purpose of preserving safe and sound operations, thereby protecting the insurance risk to the Deposit Insurance Fund; (b) if the institution is well managed and served by other fully competent directors, officers or employees; (c) if the person's background, including any past history in dealing with regulatory authorities, indicates an ability to operate a savings association in a safe and sound manner; (d) if the credentials of the person in question are such that the services to be performed would be particularly valuable to the savings association; and (e) if the service of the individual in management positions at unaffiliated depository organizations is likely to result in a monopoly or substantial lessening of competition.

Type of Review: Extension of a currently approved collection.

Affected Public: Businesses or other for-profit.

Estimated Number of Respondents: 3.

Estimated Frequency of Response: On occasion.

Estimated Total Burden: 12 hours.

Dated: July 13, 2011.
Ira L. Mills,
Paperwork Clearance Officer, Office of Chief Counsel, Office of Thrift Supervision.

[FR Doc. 2011-18177 Filed 7-18-11; 8:45 am]

BILLING CODE 6720-01-P